DEPARTMENT OF THE INTERIOR

National Park Service

National Register of Historic Places; Notification of Pending Nominations and Related Actions

Nominations for the following properties being considered for listing or related actions in the National Register were received by the National Park Service before December 13, 2008. Pursuant to section 60.13 of 36 CFR Part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington, DC 20005; or by fax, 202-371-6447. Written or faxed comments should be submitted by January 15, 2009.

J. Paul Loether,
Chief, National Register of Historic Places/National Historic Landmarks Program.

ALABAMA

Montgomery County

Tankersley Rosenwald School, (The Rosenwald School Building Fund and Associated Buildings MPS) 10 mi. S. on Montgomery on U.S. 31 to Pettus Rd. to School Spur on W. side, Hope Hull, 08001332

ARIZONA

Maricopa County

Myrtle Avenue Residential Historic District, 6305-6423 W. Myrtle Ave., Glendale, 08001345

Pinal County

Evergreen Addition Historic District, Generally bounded by McMurray Blvd., Gilbert Ave., Florence Blvd., and Casa Grande Ave., Casa Grande, 08001346

ARKANSAS

Ashley County

Hamburg Commercial Historic District, 100-200 block of E. Adams; 100 block N. Mulberry; 201 S. Mulberry; 201 and 205 N. Main St., Hamburg, 08001333

Carroll County

Concord School House, 805 Co. Rd. 309, Eureka Springs, 08001334

Cleburne County

Disfarmer, Mike Meyer, Gravesite, In the Heber Springs Cemetery at the NR corner of Oak St. and S. 4th St., Heber Springs, 08001335

Conway County

Eral Building, (Arkansas Highway History and Architecture MPS) 201 N. St. Joseph St., Morrilton, 08001336

Drew County

Ridgeway Hotel Historic District, 200-206 E. Gaines St., Monticello, 08001337

Fulton County

AR 289 Bridge Over English Creek, (Historic Bridges of Arkansas MPS) AR289 over English Creek, Mammoth Spring, 08001338

Hempstead County

Southwestern Proving Ground Building No. 4, (World War II Home Front Efforts in Arkansas, MPS) 259 Hempstead Co. Rd. 279, Hope, 08001339

Nevada County

Ephesus Cemetery, ¼ mi. N. of Emmet on U.S. 67, Emmet, 08001340

Pope County

Little Rock to Cantonment Gibson Rd—Fourth Street Segment, (Cherokee Trail of Tears MPS) 4th St. between Union Grove and Blackland Sts., Atkins, 08001342

Pulaski County

Block 35 Cobblestone Alley, W. of the N. end of Rock St., Little Rock, 08001343

West 7th Street Historic District, Portions of 800-1100 blocks of W. 7th St., Little Rock, 08001341

Washington County

Illinois River Bridge at Phillips Ford, (Historic Bridges of Arkansas MPS) Co. Rd. 848 over the Illinois River, Savoy, 08001344

CALIFORNIA

Amador County

Kennedy Mine Historic District, 12594 Kennedy Mine Rd., Jackson, 08001347

KANSAS

Cloud County

Clyde School, (Public Schools of Kansas MPS) 620 Broadway St., Clyde, 08001348

Dickinson County

Wilson Pratt Truss Bridge, (Metal Truss Bridges in Kansas 1861-1939 MPS) 2.9 m. W. of Rain Rd. on 3200 Ave., Chapman, 08001349

Rice County

Beckett, Charles K., House, 210 W. Main, Sterling, 08001350

Riley County

Persons Barn and Granary, (Agriculture-Related Resources of Kansas) 2103 Hwy. 18, Manhattan, 08001351

Rush County

Lone Star School, District 64, (Public Schools of Kansas MPS) RR, 1¼ m. W. of Bison Ave. M., Bison, 08001352

Shawnee County

Hopkins House, 6033 SE U.S. Hwy. 40, Tecumseh, 08001353

Shoemaker, J.A., House, 1434 SW. Pass Ave., Topeka, 08001354

MAINE

Androscoggin County

Main Street-Frye Street Historic District, Frye St. and portions of Main St. and College St., Lewiston, 08001355

Aroostook County

Lagassey Farm, 786 Main St., Saint Agatha, 08001356

Somerset County

Kromberg Barn, E. side of E. Pond Rd., across from number 462, Smithfield, 08001357

Washington County

Plummer, Capt. John, House, 23 Pleasant St., Addison, 08001358

MISSOURI

Jackson County

1901 McGee Street Automotive Service Building, 1901-1907 McGee St., Kansas City, 08001359

St. Francois County

Farmington State Hospital No. 4 Cemetery, ¼ mi. S. of Doubet Rd. on E. side of Pullan Rd., Farmington, 08001360

NORTH CAROLINA

Brunswick County

Kilgo, Bishop John C., House, 2100 The Plaza, Charlotte, 08001364

Buncombe County

Smith, Richard Sharp, House, 655 Chunns Cove Rd., Asheville, 08001361

Forsyth County

Old Richmond Schoolhouse and Gymnasium, 6315 and 6375 Tobaccoville Rd., Tobaccoville, 08001362

Harnett County

Harrington-Dewar House, 994 Fred Burns Rd., Holly Springs, 08001363

Mecklenburg County

Robinson Rock House Ruin and Plantation Site, Reedy Creek Park-2900 Rocky River Rd., Charlotte, 08001365

Polk County

Mill Farm Inn, 701 Harmon Field Rd., Tryon, 08001366

NORTH DAKOTA

Richland County

Fort Abercrombie, Richland Co. Rt. 4, Abercrombie, 08001367

OREGON

Lane County

Willakenzie Grange Hall, 3055 Willakenzie Rd., Eugene, 08001368

SOUTH CAROLINA

Newberry County

Hannah Rosenwald School, (Rosenwald School Building Program in South Carolina, 1917-1932) 61 Deadfall Rd., Newberry, 08001369

WISCONSIN

Columbia County

Robertson, John A. and Martha, House, 456 Seminary St., Lodi, 08001370

Request for removal has been made for the following resources:

ARKANSAS

Sebastian County

Old U.S. 71-Devil's Backbone Segment S. Coker St. From just SW of Stewart Ct. to current U.S. 71 Greenwood, 04000488

MAINE

Cumberland County

Portland Stove Foundry, 57 Kennebec St. Portland, 74000164

[FR Doc. E8-31069 Filed 12-30-08; 8:45 am]

BILLING CODE 4310-70-P